DEPARTMENT OF TRANSPORTATION

Pipeline and Hazardous Materials Safety Administration

49 CFR Part 177

[Docket No. PHMSA-2025-0100 (HM-268L)]

RIN 2137-AG14

Hazardous Materials: Adoption of Department of Transportation Special Permits 12412 and 11646 Into the Hazardous Materials Regulations

AGENCY: Pipeline and Hazardous Materials Safety Administration (PHMSA), Department of Transportation (DOT).

ACTION: Notice of proposed rulemaking (NPRM).

SUMMARY: This NPRM proposes adopting the provisions of Department of Transportation (DOT) Special Permit (SP) 12412 and DOT-SP 11646 into the hazardous materials regulations. These revisions would provide greater regulatory flexibility and eliminate the need for special permit renewal requests, reducing paperwork burdens and facilitating commerce while maintaining an equivalent level of safety.

DATES: Comments must be received on or before September 2, 2025.

ADDRESSES: You may submit comments identified by the Docket Number PHMSA-2025-0100 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

Instructions: Please include the docket number PHMSA-2025-0100 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. You may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Ryan Larson, Standards and Rulemaking Division, Pipeline and Hazardous Materials Safety Administration (PHMSA), 2nd Floor, 1200 New Jersey Avenue SE, Washington, DC 20590-0001, or by email at ryan.larson@dot.gov. Any materials PHMSA receives that is not specifically designated as CBI will be placed in the public docket.

Docket: For access to the docket to read background documents or comments received, go to http://www.regulations.gov. Follow the online instructions for accessing the docket. Alternatively, you may review the documents in person at the street address listed above.

FOR FURTHER INFORMATION CONTACT: Ryan Larson, Transportation Regulations Specialist, 1200 New Jersey Avenue SE, Washington, DC 20590, 202-366-8553, ryan.larson@dot.gov.

SUPPLEMENTARY INFORMATION:

I. General Discussion

PHMSA is proposing to revise certain provisions in 49 CFR part 177 of Chapter I of Title 49 of the Code of Federal Regulations (CFR). Section 177.834 establishes general operational requirements for transportation by highway. Currently, § 177.834(h) generally prohibits unloading hazardous material packaging while it remains on a motor vehicle. However, DOT-SP 11646 authorizes the discharge of certain Class 3, 8, 9, and Division 6.1 liquids from a DOT specification drum without removing the drum from the vehicle on which it is transported.

PHMSA proposes to adopt the provisions of DOT-SP 11646 into a new § 177.834(h)(1) that would allow only certain lower hazard liquids in packing groups II and III to be unloaded from United Nations (UN) standard drums without first removing the drums from the vehicle provided certain conditions are met to ensure safety. Some of these safety controls include requiring attendance by a qualified person during unloading, not allowing the manifolding of multiple drums, and requiring that hoses are not attached to outlets during transportation. Party status to DOT-SP 11646 is currently held by 43 entities. PHMSA conducted a review of DOT-SP 11646 and found no compliance violations.

Similarly, DOT-SP 12412 authorizes the discharge of liquid hazardous materials authorized to be shipped in UN 31A, 31B, 31N, 31H1, 31H2 or 31HZ1 Intermediate Bulk Containers (IBCs) and DOT 57 portable tanks without removing the packagings from the vehicle on which they are transported.¹ PHMSA proposes to adopt the provisions of DOT-SP 12412 into a new § 177.834(h)(2) that would permit the discharge of liquids from specified UN standard IBCs or DOT 57 portable tanks without removing the packagings from a motor vehicle, provided certain conditions are met. Some of these safety controls include limiting which types of IBCs or DOT 57 portable tanks are authorized for the exception, requiring attendance by a qualified person during unloading operations, requiring hoses to be detached from discharge outlets during transportation, and not allowing unsafe combinations of materials on the same vehicle to take advantage of the exception.² Party status to DOT-SP 12412 is currently held by 263 entities. PHMSA conducted a review of the DOT-SP 12412 and history of compliance violations or incidents.

¹ PHMSA notes that the HMR do not apply to the end-use commercial application of a product, such as spraying pesticides, herbicides, or cleaning solutions from a packaging while the packaging remains on a motor vehicle if during these times the motor vehicle is not in transportation as defined by the HMR.

² PHMSA notes that for IBCs and DOT 57 portable tanks, proposed paragraph (h)(2) states that residue remaining in devices (e.g., pumps, piping, and discharge hoses) after product draining is not subject to this requirement, provided the devices are capped and secured during transportation.

Overall, PHMSA expects the regulatory amendments in this NPRM would improve the affected entities' abilities to provide abundant, reliable, and affordable products in response to residential, commercial, and industrial demand. PHMSA does not expect that these proposed revisions would have any adverse impact on safety.

II. Regulatory Analysis and Notices

A. Legal Authority

This proposed rule is published under the authority of the Secretary of Transportation set forth in the Federal Hazardous Materials Transportation laws (49 U.S.C. 5101 et seq.) and delegated to the PHMSA Administrator pursuant to 49 CFR 1.97.

B. Executive Orders 12866; Regulatory Planning and Review

Executive Order (E.O.) 12866 (“Regulatory Planning and Review”),³ as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

³ 58 FR 51735 (Oct. 4, 1993).

E.O. 12866 and DOT Order 2100.6B also require that PHMSA submit “significant regulatory actions” to the Office of Information and Regulatory Affairs (OIRA) within the Executive Office of the President's Office of Management and Budget (OMB) for review. This proposed rule is a not significant regulatory action pursuant to E.O. 12866; it also has not designated this rule as a “major rule” as defined by the Congressional Review Act (5 U.S.C. 801 et seq.).

PHMSA has complied with E.O. 12866 as implemented by DOT Order 2100.6B and made a preliminary determination that this proposed rule would result in cost savings by reducing regulatory burdens and regulatory uncertainty for affected entities by reducing the time and manpower necessary for entities needing to unload these materials efficiently and safely without the need for special permits. PHMSA expects those cost savings would also result in reduced costs for the public to whom those entities generally transfer a portion of their compliance costs.

C. Executive Orders 14192 and 14219

This proposed rule, if finalized as proposed, is expected to be an E.O. 14192 deregulatory action.⁴ PHMSA seeks data that would be helpful to generate an estimate of the cost savings from this rule. PHMSA's initial estimates are that the total costs of the rule on the regulated community would be less than zero. Nor does this proposed rule does implicate any of the factors identified in section 2(a) of E.O. 14219 indicative of a regulation that is “unlawful . . . [or] that undermine[s] the national interest.” ⁵

⁴ 90 FR 9065 (Jan. 31, 2025).

⁵ 90 FR 10583 (Feb. 19, 2025).

D. Energy-Related Executive Orders 13211, 14154, and 14156

The President has declared in E.O. 14156 (“Declaring a National Energy Emergency”) ⁶ a national emergency to address the United States's inadequate energy development production, transportation, refining, and generation capacity. Similarly, E.O. 14154 (“Unleashing American Energy”) ⁷ asserts a Federal policy to unleash American energy by ensuing access to abundant supplies of reliable, affordable energy from (inter alia) the removal of “undue burden[s]” on the identification, development, or use of domestic energy resources such as PHMSA-jurisdictional affected entities. PHMSA preliminarily finds this proposed rule is consistent with each of E.O. 14156 and E.O. 14154. The proposed rule will give affected entities, many of whom are in the construction and energy industries, the ability to conduct their operations without having to remove certain hazardous materials packaging from vehicles, when in some cases, they do not have the equipment necessary to safely remove fully loaded packages.

⁶ 90 FR 8353 (Jan. 29, 2025).

⁷ 90 FR 8353 (Jan. 29, 2025).

However, this proposed rule is not a “significant energy action” under E.O. 13211 (“Actions Concerning Regulations That Significantly Affect Energy Supply, Distribution, or Use”),⁸ which requires Federal agencies to prepare a Statement of Energy Effects for any “significant energy action.” Because this proposed rule is not a significant action under E.O. 12866, it will not have a significant adverse effect on supply, distribution, or energy use; and OIRA has therefore not designated this proposed rule as a significant energy action.

⁸ 66 FR 28355 (May 22, 2001).

E. Executive Order 13132: Federalism

PHMSA analyzed this proposed rule in accordance with the principles and criteria contained in E.O. 13132 (“Federalism”) ⁹ and the Presidential Memorandum (“Preemption”) published in the Federal Register on May 22, 2009.¹⁰ E.O. 13132 requires agencies to assure meaningful and timely input by State and local officials in the development of regulatory policies that may have “substantial direct effects on the States, on the relationship between the National Government and the States, or on the distribution of power and responsibilities among the various levels of government.” The Federal Hazardous Materials Transportation laws contain an express preemption provision at 49 U.S.C. 5125(b) that preempts state, local, and tribal requirements on certain covered subjects, unless the non-federal requirements are “substantively the same” as the federal requirements, including the following:

⁹ 64 FR 43255 (Aug. 10, 1999).

¹⁰ 74 FR 24693 (May 22, 2009).

(1) The designation, description, and classification of hazardous material;

(2) The packing, repacking, handling, labeling, marking, and placarding of hazardous material;

(3) The preparation, execution, and use of shipping documents related to hazardous material and requirements related to the number, contents, and placement of those documents;

(4) The written notification, recording, and reporting of the unintentional release in transportation of hazardous material; and

(5) The design, manufacture, fabrication, inspection, marking, maintenance, recondition, repair, or testing of a packaging or container represented, marked, certified, or sold as qualified for use in transporting hazardous material in commerce.

This proposed rule addresses covered subject items (2) above and would preempt state, local, and Tribal requirements not meeting the “substantively the same” standard. While the proposed rule may operate to preempt some State requirements, it would not impose any regulation that has substantial direct effects on the States, the relationship between the National Government and the States, or the distribution of power and responsibilities among the various levels of government. The preemptive effect of the regulatory amendments in this proposed rule is limited to the minimum level necessary to achieve the objectives of the Federal Hazardous Materials Transportation laws. Therefore, the consultation and funding requirements of E.O. 13132 do not apply.

F. Regulatory Flexibility Act

The Regulatory Flexibility Act (5 U.S.C. 601 et seq.) requires Federal agencies to conduct an Initial Regulatory Flexibility Analysis (IRFA) for a proposed rule subject to notice-and-comment rulemaking under the APA unless the agency head certifies that the proposed rule in the rulemaking will not have a significant economic impact on a substantial number of small entities. E.O. 13272 (“Proper Consideration of Small Entities in Agency Rulemaking”) ¹¹ obliges agencies to establish procedures promoting compliance with the Regulatory Flexibility Act. DOT posts its implementing guidance on a dedicated web page.¹² This proposed rule was developed in accordance with E.O. 13272 and DOT implementing guidance to ensure compliance with the Regulatory Flexibility Act. The proposed rule is expected to reduce burdens. Therefore, PHMSA certifies the proposed rule does not have a significant impact on a substantial number of small entities.

¹¹ 67 FR 53461 (Aug. 16, 2002).

¹² DOT, “Rulemaking Requirements Related to Small Entities,” https://www.transportation.gov/regulations/ rulemaking-requirements-concerning-small-entities (last accessed Sept 3, 2024).

G. Unfunded Mandates Reform Act of 1995

The Unfunded Mandates Reform Act (UMRA, 2 U.S.C. 1501 et seq.) requires agencies to assess the effects of Federal regulatory actions on State, local, and Tribal governments, and the private sector. For any proposed or final rule that includes a Federal mandate that may result in the expenditure by state, local, and Tribal governments, in the aggregate of $100 million or more (in 1996 dollars) in any given year, the agency must prepare, amongst other things, a written statement that qualitatively and quantitatively assesses the costs and benefits of the Federal mandate.

This proposed rule does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this proposed rule in accordance with NEPA and has preliminarily determined that the rulemaking will not adversely affect safety and therefore will not significantly affect the quality of the human and natural environment. The public is invited to comment on the impact of the proposed action.

I. Executive Order 13175

PHMSA analyzed this proposed rule according to the principles and criteria in E.O. 13175 (“Consultation and Coordination with Indian Tribal Governments”) ¹³ and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal government and Tribes.

¹³ 65 FR 67249 (Nov. 9, 2000).

PHMSA assessed the impact of the proposed rule and determined that it would not significantly or uniquely affect Tribal communities or Indian Tribal governments. The rulemaking's regulatory amendments have a broad, national scope; therefore, this proposed rule would not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking would not create, amend, or rescind any existing information collections. However, this rulemaking eliminates the need for persons to renew a special permit, resulting in a decrease in paperwork burden for special permit holders. PHMSA estimates the reduction in information collection burden as follows:

OMB Control No. 2137-0051: Rulemaking, Special Permits, and Preemption Requirements.

Decrease in Annual Number of Respondents: 77.

Decrease in Annual Responses: 77.

Decrease in Annual Burden Hours: 115.

Decrease in Annual Burden Cost: $0.

PHMSA specifically requests comments on the information collection and recordkeeping burdens associated with developing, implementing, and maintaining these requirements for approval under this NPRM. Address written comments to the Dockets Unit as identified in the ADDRESSES section of this NPRM. PHMSA must receive comments regarding information collection burdens prior to the close of the comment period identified in the DATES section of this NPRM. Notwithstanding any other provision of law, no person is required to respond to a collection of information unless such collection displays a valid Office of Management and Budget (OMB) control number.

Please direct your requests for a copy of this information collection to Steven Andrews, Office of Hazardous Materials Standards (PHH-12), Pipeline and Hazardous Materials Safety Administration, 1200 New Jersey Avenue SE, 2nd Floor, Washington, DC, 20590-0001.

K. Executive Order 13609 and International Trade Analysis

E.O. 13609 (“Promoting International Regulatory Cooperation”) ¹⁴ requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

¹⁴ 77 FR 26413 (May 4, 2012).

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the proposed rule and has determined that its regulatory amendments would not cause unnecessary obstacles to foreign trade.

L. Cybersecurity and Executive Order 14028

E.O. 14028 (“Improving the Nation's Cybersecurity”) ¹⁵ directed the Federal government to improve its efforts to identify, deter, and respond to “persistent and increasingly sophisticated malicious cyber campaigns.” PHMSA has considered the effects of the proposed rule and has determined that its regulatory amendments would not materially affect the cybersecurity risk profile for affected entities.

¹⁵ 86 FR 26633 (May 17, 2021).

List of Subjects in 49 CFR Part 177

Hazardous materials transportation, Motor carriers, Radioactive materials, Reporting, and recordkeeping requirements.

In consideration of the foregoing, PHMSA proposes to amend 49 CFR chapter I as follows:

PART 177—CARRIAGE BY PUBLIC HIGHWAY

1. The authority citation for part 177 continues to read as follows:

Authority: 49 U.S.C. 5101-5128; sec. 112 of Pub. L. 103-311, 108 Stat. 1673, 1676 (1994); sec. 32509 of Pub. L. 112-141, 126 Stat. 405, 805 (2012); 49 CFR 1.81 and 1.97.

2. In § 177.834, revise paragraph (h) to read as follows:

§ 177.834 General Requirements.

* * * * *

(h) Precautions concerning containers in transit; fueling road units. Reasonable care should be taken to prevent undue rise in temperature of containers and their contents during transit. There must be no tampering with such container or the contents thereof nor any discharge of the contents of any container between point of origin and point of billed destination. Discharge of contents of any container, other than a cargo tank, IM portable tank, or packaging authorized in paragraphs (h)(1) and (h)(2) of this section, must not be made prior to removal from the motor vehicle. Nothing contained in this paragraph shall be so construed as to prohibit the fueling of machinery or vehicles used in road construction or maintenance.

(1) Drums. For the purpose of this section only, Class 3 (PG II and III), Division 6.1 (PG II and III), Class 8 (PG II and PG III), and Class 9 materials are authorized. For liquids authorized under this section, the following conditions apply—

(i) Product transfer must be through pumps mounted on the motor vehicle or with an injection system indirectly mounted on a motor vehicle;

(ii) The drums must be attended at all times during unloading operations by a qualified person. For the purposes of this requirement, “attended” and “qualified” have the meanings described in paragraphs (i)(3) and (i)(4) of this section, respectively;

(iii) Hoses shall not be attached to container outlets during transportation;

(iv) Drums shall not be manifolded together during transportation; and

(v) Each reused drum must meet the requirements prescribed in § 173.28 or an active special permit, as applicable.

(2) IBCs and DOT specification 57 portable tanks transporting materials other than Class 3 (PG II); Class 3 (PG III with a flash point of less than 100 °F (38 °C)); Division 5.1 (PG II); or Division 6.1 (PG II). For liquids authorized to be transported in metal, rigid plastic, and composite UN standard IBCs or DOT Specification 57 portable tanks, the following conditions apply—

(i) Transportation is limited to private or contract motor vehicle;

(ii) IBC design types authorized are UN 31A, 31B, 31N, 31H1, 31H2, and 31HZ1;

(iii) If the IBC or portable tank is pressurized, it must be equipped with a pressure relief device set to open at not higher than two-thirds of the test pressure or 9 psig for a metal IBC;

(iv) Except for hypochlorite solutions and fluosilicic acid, two or more materials may not be loaded on the same vehicle if any mixture of the materials would cause an unsafe condition. Hypochlorite solutions and fluosilicic acid may be loaded on the same vehicle and transported in separate IBCs provided—

(A) No more than two IBCs are transported on a motor vehicle;

(B) Each IBC has a capacity not exceeding 1703 L (450 gallons);

(C) The materials shall not be discharged at the same time; and

(D) The hazardous materials are used for water treatment purposes only.

(v) Packagings shall not be manifolded together or have discharge outlets permanently connected to any part of the vehicle, including its discharge system. Hoses shall not remain attached to IBCs or portable tanks (e.g., discharge outlets) during transportation (movement) of the motor vehicle;

(vi) The packagings must be attended at all times during unloading operations by a qualified person. For the purposes of this requirement, “attended” and “qualified” have the meanings described in paragraphs (i)(3) and (i)(4) of this section, respectively;

(vii) Each IBC or DOT specification 57 portable tank must be discharged by—

(A) Using a mechanical pump with a positive means of stopping the flow of liquid from the pump;

(B) Gravity; or

(C) Pressurizing the IBC or portable tank.

(viii) Before starting each transfer of product to a receiving system, the person performing that function must determine that each component of the discharge system (including the hose) is of sound quality, free of leaks, and that connections are secure. A hose or associated equipment that shows signs of leakage, significant bulging, or other defects may not be used;

(ix) Packages shall not be filled or refilled while on a motor vehicle unless filled or refilled on the private property of the shipper, filler, or refiller. Prior to refilling, each IBC and its service equipment must be visually inspected in accordance with the provisions of §§ 173.35(b) and 180.352 and each DOT specification 57 portable tank and its service equipment must be visually inspected in accordance with the provisions of § 180.605;

(x) Prior to reentering transportation, all hazardous materials must be purged from the pump, if equipped, the piping, and the discharge hose, as far as practicable; or all free-flowing hazardous material must be removed from the pump, if equipped, piping and the discharge hose in accordance with § 173.33(e). Residue remaining in these devices after product draining is not subject to this requirement provided these devices are capped and secured during transportation.

(xi) If the IBC or portable tank is unloaded using a pump, or if it is pressurized for unloading, prior to using a new or repaired transfer hose assembly (hose and associated fittings), the hose assembly must be subjected to a pressure test. The pressure test must be performed at no less than the pressure the hose is expected to be subjected to during product transfer. This test must be performed with all hose and hose fittings arranged in the configuration to be employed during transfer operations. Burst pressure must be at least four times the service pressure of the pump.

* * * * *

Issued in Washington, DC, on June 26, 2025, under the authority delegated in 49 CFR 1.97.
Benjamin D. Kochman,
Acting Administrator.

[FR Doc. 2025-12099 Filed 6-27-25; 4:15 pm]

BILLING CODE 4910-60-P